DEPARTMENT OF COMMERCE

National Oceanic and Atmospheric Administration

[I.D. 092104B]

Notice of Availability of Draft Stock Assessment Reports

AGENCY: National Marine Fisheries Service (NMFS), National Oceanic and Atmospheric Administration (NOAA), Commerce.

ACTION: Notice of availability; request for comments.

SUMMARY: NMFS reviewed the Alaska, Atlantic, and Pacific regional marine mammal stock assessment reports (SARs) in accordance with the Marine Mammal Protection Act (MMPA). After a review of SARs and new information on the status of marine mammals, NMFS determined that marine mammal stocks in the Alaska and Atlantic regions did not change status or the status could not be determined more accurately. SARs for marine mammals in these two regions were not revised. SARs for marine mammals in the Pacific region were revised according to new information. NMFS also proposes changes to the guidelines for preparing SARs. NMFS solicits public comments on draft 2004 Pacific reports and on proposed changes to the guidelines for preparing SARs.

DATES: Comments must be received by February 16, 2005.

ADDRESSES: Send comments or requests for copies of reports to: Chief, Marine Mammal Conservation Division, Office of Protected Resources, National Marine Fisheries Service, 1315 East-West Highway, Silver Spring, MD 20910-3226, Attn: Stock Assessments. Comments may also be sent via facsimile (fax) to 301-427-2580 or via email to mmsar.2004@noaa.gov. Copies of the Pacific Regional SARs may be requested from Cathy Campbell, Southwest Regional Office, NMFS, 501 West Ocean Boulevard, Long Beach, CA 90802-4213.

FOR FURTHER INFORMATION CONTACT: Tom Eagle, Office of Protected Resources, 301-713-2322, ext. 105, e-mail Tom.Eagle@noaa.gov or Cathy Campbell, 562-280-4060, e-mail Cathy.E.Campbell@noaa.gov.

SUPPLEMENTARY INFORMATION:

Electronic Access

All draft stock assessment reports and the proposed revisions to the guidelines for preparing them are available via the Internet at http://www.nmfs.noaa.gov/prot_res/PR2/Stock_Assessment_Program/sars.html.

Background

Section 117 of the Marine Mammal Protection Act (MMPA) (16 U.S.C. 1361 et seq.) requires NMFS and the U.S. Fish and Wildlife Service (FWS) to prepare stock assessments for each stock of marine mammals occurring in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every 3 years for non-strategic stocks. NMFS and the FWS are required to revise a SAR if the status of the stock has changed or can be more accurately determined. NMFS, in conjunction with the Alaska, Atlantic, and Pacific Scientific Review Groups (SRGs), reviewed the status of marine mammal stocks as required and revised reports in the Pacific region. NMFS solicits public comments on the draft 2004 Pacific SARs.

The SARs in the Alaska and Atlantic regions were reviewed along with new information on these stocks of marine mammals. Although new abundance or mortality estimates were available for some stocks in these regions, the status of no stocks in these regions would be changed. Furthermore, NMFS could not determine the status of marine mammal stocks in the Alaska or Atlantic regions with substantially improved accuracy. Therefore, the reports in these two regions were not revised.

NMFS convened a workshop in June 1994, including representatives from NMFS, FWS, and the Marine Mammal Commission, to prepare draft guidelines for preparing SARs. The report of this workshop (Barlow et al., 1995) included the guidelines for preparing SARs and a summary of the discussions upon which the guidelines were based. The draft guidelines were made available, along with the initial draft SARs, for public review and comment (59 FR 40527, August 9, 1995).

In 1996, NMFS convened a second workshop to review the guidelines and to recommend changes, if appropriate, to them. Workshop participants included representatives from NMFS, FWS, MMC, and the three regional SRGs. The report of that workshop (Wade and Angliss, 1997) summarized the discussion at the workshop and contained revised guidelines. The revised guidelines represented minor changes from the initial version. The revised guidelines were made available for public review and comment along with revised stock assessment reports on January 21, 1997 (62 FR 3005).

In September 2003, NMFS again convened a workshop to review guidelines for SARs and again has proposed minor changes to the guidelines. Participants at the workshop included representatives of NMFS, FWS, MMC, and the regional SRGs. NMFS solicits public comments on the proposed changes to the guidelines for preparing SARs.

Revisions to Stock Assessment Reports

The Pacific SARs contain new or revised stock assessments for 30 Pacific marine mammal stocks under NMFS' jurisdiction. Reports on the remaining 30 Pacific region stocks were not revised.

NMFS conducted its first comprehensive survey to estimate the abundance of cetaceans in the U.S. Exclusive Economic Zone (EEZ) surrounding the Hawaiian Archipelago in fall 2002. Results of this survey were incorporated into the draft 2004 SARs for Hawaiian cetaceans, including abundance and Potential Biological Removal (PBR) estimates for all Hawaiian stocks except blue and minke whales. Three new reports were added to the Pacific SARs as a result of the 2002 survey, Hawaiian stocks of sei whales, minke whales, and Longman's beaked whales. SARs for Hawaiian stocks of marine mammals were also updated to revised mortality estimates to include results of an increased level of observer coverage in the Hawaiian longline fishery.

The report for the Hawaiian stock of false killer whales has been changed to reflect information indicating fine-scale stock structure of false killer whales. The draft report includes two prospective stocks of false killer whales because whales in the EEZ around Palmyra Island are likely a different stock than around the Hawaiian Islands. The ranges of these two prospective stocks include the EEZ surrounding Palmyra Island and the EEZ surrounding the Hawaiian Islands, respectively. False killer whales in international waters are not included in either of these prospective stocks; however, the Hawaii longline fishery causes serious injury and mortality of false killer whales on the high seas. MMPA section 117 requires SARs to be prepared for all stocks of marine mammals occurring in waters under US jurisdiction, but it has no provisions for assessing the status of marine mammal stocks found on the high seas. Therefore, it is unlikely that abundance and PBR estimates will be available for stocks of false killer whales and other cetaceans that do not occupy waters under US jurisdiction.

The SAR for Hawaiian monk seals was revised to indicate the PBR for this stock is undefined. The change is consistent with a recommended change to the guidelines for preparing SARs, discussed below.

Revisions to Guidelines

Revisions to guidelines for preparing SARs focus primarily on stock structure and estimating PBR. The current guidelines for identifying stocks of marine mammals state, “For the purposes of management under the MMPA, a stock is recognized as being a management unit that identifies a demographically isolated biological population.” Proposed revisions to the section of the guidelines entitled “Definition of Stock” generally clarify specific points related to demographic isolation as the basis for identifying stocks of marine mammals. Selected proposed changes to the guidelines are summarized below.

The definition of “population stock” or “stock” in the MMPA includes the phrase “interbreed when mature”. The proposed changes to the guidelines recognize the phrase “interbreed when mature” includes cases in which a group of marine mammals migrates seasonally to a breeding ground where its members interbreed with members of the same group or with members of other demographically isolated groups that have migrated to the same breeding ground from other feeding areas. NMFS identified the Gulf of Maine feeding aggregation of humpback whales in the Western North Atlantic Ocean as a separate stock in 2000; thus, the proposed change emphasizes and clarifies practice NMFS has used in the past.

In the absence of data related to stock structure for a specific group of marine mammals, NMFS may use data on stock structure from other parts of a species' range to make inferences about the likely geographic sizes of stocks. The proposed guidelines clarify the use of indirect observation and information in such cases.

Another proposed change addresses “prospective stocks” when data suggest stock structure is more finely scaled than the current stock identity indicates, but the data are insufficient to fully support a new stock. Under this change, abundance, PBR, and mortality estimates of the prospective stocks would be included in a SAR. The identification of management units of coastal bottlenose dolphins in the Western North Atlantic in the 2002 SARs is an example of a previous use of this concept although the terminology was different (management units versus prospective stocks). The 2004 draft SARs for the Hawaii stock of false killer whales identifies prospective stock structure in accordance with this proposed change.

In unusual situations, the formula Congress added to the MMPA to calculate PBR (Nmin*0.5Rmax*Fr) results in a number that is not consistent with the narrative definition of PBR (the maximum number of animals, not including natural mortality, that may be removed from a marine mammal stock while allowing that stock to reach or maintain its OSP). Such a situation arises when a stock is below its OSP and is declining or stable, yet human-caused mortality is a not a major factor in the population's trend. For example, Hawaiian monk seals are endangered, declining, and below OSP (based upon the abundance prior to the 1970s), yet human-caused mortality is insufficient to account for the decline or a failure to increase. A limited removal would not reduce the population's ability not reach or maintain its OSP after the major factors affecting the stock have been identified and addressed.

One option for PBR in these situations is to estimate PBR as zero. However, a PBR of zero may not reflect the concept of PBR included in the narrative definition. Furthermore, a PBR of zero would be inconsistent with Congress' concerns about the need to establish a procedure that allows for occasional taking of threatened or endangered species incidental to commercial fishing (See House Report 103-439 (March 21, 1994) at 30.) Therefore, in these unusual situations, NMFS may report PBR as “undefined”. The draft 2004 SAR for Hawaiian monk seals has been changed in accordance with this proposed change to the guidelines.

Dated: November 15, 2004.
P. Michael Payne
Acting Director, Office of Protected Resources, National Marine Fisheries Service.

[FR Doc. 04-25645 Filed 11-17-04; 8:45 am]

BILLING CODE 3510-22-S